DEPARTMENT OF THE INTERIOR

National Park Service

[NPS-WASO-NAGPRA-NPS0030423; PPWOCRADN0-PCU00RP14.R50000]

Notice of Inventory Completion: The University of Tennessee, Department of Anthropology, Knoxville, TN; Correction

AGENCY: National Park Service, Interior.

ACTION: Notice; correction.

SUMMARY: The University of Tennessee, Department of Anthropology (UTK), has corrected an inventory of human remains and associated funerary objects, published in a Notice of Inventory Completion in the Federal Register on December 21, 2018. This notice corrects the number of associated funerary objects. Lineal descendants or representatives of any Indian Tribe or Native Hawaiian organization not identified in this notice that wish to request transfer of control of these human remains and associated funerary objects should submit a written request to UTK. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UTK at the address in this notice by August 19, 2020.

ADDRESSES: Dr. Robert Hinde, University of Tennessee, Office of the Provost, 527 Andy Holt Tower, Knoxville, TN 37996-0152, telephone (865) 974-2445, email rhinde@utk.edu and vpaa@utk.edu.

SUPPLEMENTARY INFORMATION: Notice is here given in accordance with the Native American Graves Protection and Repatriation Act (NAGPRA), 25 U.S.C. 3003, of the correction of an inventory of human remains and associated funerary objects under the control of the University of Tennessee, Department of Anthropology, Knoxville, TN. The human remains and associated funerary objects were removed from Bedford County, Lincoln County, and Stewart County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (83 FR 65722-65724, December 21, 2018). Additional associated funerary objects were discovered after publication of the notice. Transfer of control of the items in this correction notice has not occurred.

Correction

In the Federal Register (83 FR 65723, December 21, 2018), column 1, 9th sentence from the top, is corrected to read as follows:

The 4,809 associated funerary objects include: 2,120 chert waste flakes, 27 bifacially worked tools or tool fragments, one core fragment, two gravers, one projectile point base, one piece of ochre, 130 pieces of burned clay, one ceramic sherd, 2,000 faunal bones, teeth and claws (of which 53 show evidence of polishing), 523 fragments of gastropod and mussel shell, two pieces of charcoal, and one bag of sediment.

In the Federal Register (83 FR 65723, December 21, 2018), column 1, 1st full paragraph, sentence 5 is corrected to read as follows:

The 98 associated funerary objects include: two pieces of charcoal, three ceramic sherds, two chert waste flakes, and 91 small fragments of faunal bone.

In the Federal Register (83 FR 65724, December 21, 2018), column 1, paragraph 1, sentence 3, under the heading “Determinations Made by the University of Tennessee, Department of Anthropology,” is corrected to read as follows:

Pursuant to 25 U.S.C. 3001(3)(A), the 6,329 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Dr. Robert Hinde, University of Tennessee, Office of the Provost, 527 Andy Holt Tower, Knoxville, TN 37996-0152, telephone (865) 974-2445, email rhinde@utk.edu and vpaa@utk.edu, by August 19, 2020. After that date, if no additional requestors have come forward, transfer of control of the human remains and associated funerary objects to the Cherokee Nation; Eastern Band of Cherokee Indians; The Chickasaw Nation; and the United Keetoowah Band of Cherokee Indians in Oklahoma may proceed.

The University of Tennessee, Department of Anthropology is responsible for notifying the Cherokee Nation; Eastern Band of Cherokee Indians; The Chickasaw Nation; and the United Keetoowah Band of Cherokee Indians in Oklahoma that this notice has been published.

Dated: June 4, 2020.
Melanie O'Brien,
Manager, National NAGPRA Program.

[FR Doc. 2020-15582 Filed 7-17-20; 8:45 am]

BILLING CODE 4312-52-P